DEPARTMENT OF ENERGY

Federal Energy Regulatory Commission

Combined Notice of Filings

Take notice that the Commission has received the following Natural Gas Pipeline Rate and Refund Report filings:

Filings Instituting Proceedings

Docket Numbers: RP14-1244-000.

Applicants: Algonquin Gas Transmission, LLC.

Description: § 4(d) rate filing per 154.204: Excelerate 510510 Revised NegRate eff 11-1-2014 to be effective 11/1/2014.

Filed Date: 9/4/14.

Accession Number: 20140904-5074.

Comments Due: 5 p.m. ET 9/16/14.

Docket Numbers: RP14-1245-000.

Applicants: Rockies Express Pipeline LLC.

Description: § 4(d) rate filing per 154.204: Neg Rate 2014-09-04 Encana del pt change to be effective 9/4/2014.

Filed Date: 9/4/14.

Accession Number: 20140904-5177.

Comments Due: 5 p.m. ET 9/16/14.

Docket Numbers: RP14-1246-000.

Applicants: Kern River Gas Transmission Company.

Description: § 4(d) rate filing per 154.204: 2014 Edison Delivery Meter to be effective 10/8/2014.

Filed Date: 9/5/14.

Accession Number: 20140905-5000.

Comments Due: 5 p.m. ET 9/17/14.

Docket Numbers: RP14-1247-000.

Applicants: Enable Gas Transmission, LLC.

Description: § 4(d) rate filing per 154.204: Negotiated Rate Filing—September 2014—LER 1010222 Att A to be effective 9/5/2014.

Filed Date: 9/5/14.

Accession Number: 20140905-5043.

Comments Due: 5 p.m. ET 9/17/14.

Docket Numbers: RP14-1248-000.

Applicants: Columbia Gulf Transmission, LLC.

Description: § 4(d) rate filing per 154.601: Negotiated Rate Service Agmt—Texla to be effective 11/1/2014.

Filed Date: 9/5/14.

Accession Number: 20140905-5052.

Comments Due: 5 p.m. ET 9/17/14.

Docket Numbers: RP14-1249-000.

Applicants: Golden Triangle Storage, Inc.

Description: § 4(d) rate filing per 154.204: GTS Firm Wheeling Service to be effective 10/8/2014.

Filed Date: 9/5/14.

Accession Number: 20140905-5126.

Comments Due: 5 p.m. ET 9/17/14.

Docket Numbers: RP14-1250-000.

Applicants: Enable Mississippi River Transmission, L.

Description: § 4(d) rate filing per 154.204: Negotiated Rate Filing to Amend LER 5680's Attachment A to be effective 9/5/2014.

Filed Date: 9/5/14.

Accession Number: 20140905-5149.

Comments Due: 5 p.m. ET 9/17/14.

Docket Numbers: RP14-1251-000.

Applicants: Exelon Generation Company, LLC.

Description: Petition for a Temporary Waiver of Capacity Release Regulations of Exelon Generation Company, LLC.

Filed Date: 9/5/14.

Accession Number: 20140905-5191.

Comments Due: 5 p.m. ET 9/17/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-12-002.

Applicants: Gulf South Pipeline Company, LP.

Description: Compliance filing per 154.203: Further Compliance Filing-Order 587 V (Docket No. RP13-12-000 et al) to be effective 12/1/2012.

Filed Date: 9/5/14.

Accession Number: 20140905-5030.

Comments Due: 5 p.m. ET 9/17/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated September 8, 2014.
Nathaniel J. Davis, Sr.,
Deputy Secretary.

[FR Doc. 2014-21977 Filed 9-15-14; 8:45 am]

BILLING CODE 6717-01-P